DEPARTMENT OF COMMERCE

Foreign-Trade Zones Board

Order No. 1606

Reorganization and Expansion of Foreign-Trade Zone 30, Salt Lake City, Utah

Pursuant to its authority under the Foreign-Trade Zones (FTZ) Act of June 18, 1934, as amended (19 U.S.C. 81a-81u), the Foreign-Trade Zones Board (the Board) adopts the following Order:

Whereas, the Salt Lake City Corporation, grantee of Foreign-Trade Zone No. 30, submitted an application to the Board for authority to expand and reorganize FTZ 30 in Salt Lake City, Utah, within the Salt Lake City Customs and Border Protection port of entry (FTZ Docket 30-2008, filed 5/8/2008);

Whereas, notice inviting public comment was given in the Federal Register (73 FR 28430, 5/16/2008) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to reorganize and expand FTZ 30 is approved, subject to the Act and the Board's regulations, including Section 400.28.

Signed at Washington, DC, this 13th day of February 2009.

Ronald K. Lorentzen,
Acting Assistant Secretary of Commerce for Import Administration, Alternate Chairman, Foreign-Trade Zones Board.
Attest:
Andrew McGilvray,
Executive Secretary.

[FR Doc. E9-4614 Filed 3-3-09; 8:45 am]

BILLING CODE 3510-DS-S